DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source off looding | Location | *Elevation in feet(NGVD) +Elevation in feet (NAVD) #Depth in feet above ground Modified
City of Norfolk, Virginia FEMA Docket No.: B-1002
Virginia | City of Norfolk | Chesapeake Bay | Approximately 320 feet north of the intersection of Ocean Avenue and 20th Street | +9.1
Virginia | City of Norfolk | Eastern Branch Elizabeth River | Approximately 500 feet southwest of Atlantic Street and Waterfront Avenue. | +9.1
Virginia | City of Norfolk | Elizabeth River | Approximately 1650 feet west of the intersection of Redgate Avenue and Norfolk Southern Railroad Yard Access Road | +9.1
|  |  | Approximately at the waterfront edge of the Norfolk and Southern Railyard. | +9.1
* National Geodetic Vertical Datum.
# Depth in feet above ground.
+ North American Vertical Datum.
ADDRESSES
City of Norfolk
Maps are available for inspection at 400 Granby StreetS, Norfolk, VA 23510.

Flooding source(s) | Location of referenced elevation | *Elevation in feet (NGVD) +Elevation in feet (NAVD) # Depth in feet above ground Modified | Communities affected
Trinity County, California and Incorporated Areas, Docket No.: FEMA-B-7762
Carter Gulch | At the confluence with Hayfork Creek | *2,304 | Unincorporated Areas of Trinity County.
| Approximately 960 feet upstream of Highway 3 | *2,340
Ewing Gulch | At the confluence with Hayfork Creek | *2,305 | Unincorporated Areas of Trinity County.
| Approximately 770 feet upstream of State Highway 3 | *2,343
Hayfork Creek | Approximately 260 feet downstream of the confluence of Salt Creek | *2,280 | Unincorporated Areas of Trinity County.
| Approximately 300 feet upstream of Bridge Street | *2,322
Kellogg Gulch | At the confluence with Hayfork Creek | *2,302 | Unincorporated Areas of Trinity County.
| Approximately 980 feet upstream of State Highway 3 | *2,343
# Depth in feet above ground.
* National Geodetic Vertical Datum.
+ North American Vertical Datum.
ADDRESSES
Unincorporated Areas of Trinity County
Maps are available for inspection at the Trinity County Planning Department and Planning Commission, 61 Airport Road, Weaverville, California.
Oconee County, Georgia, and Incorporated Areas, FEMA Docket No.: B-7794
Calls Creek | Approximately 3,100 feet downstream of U.S. Highway 441/State Highway 15 | +612 | Unincorporated Areas of Oconee County, City of Watkinsville.
| At U.S. Highway 441/U.S. Highway 129 Bypasses/State Highway 24/186 | +669
Lampkin Branch | At confluence with Calls Creek | +637 | City of Watkinsville.
| Approximately 1,280 feet upstream of confluence with Calls Creek | +642
Porters Creek | At confluence with Oconee River | +527 | Unincorporated Areas of Oconee County.
| Approximately 550 feet upstream of confluence with Oconee River | +527
* National Geodetic Vertical Datum.
# Depth in feet above ground.
+ North American Vertical Datum.
ADDRESSES
City of Watkinsville
Maps are available for inspection at City Hall, 191 VFW Drive, Watkinsville, GA 30677.
Unincorporated Areas of Oconee County
Maps are available for inspection at Oconee County Planning Department, 22 North Main Street, Watkinsville, GA 30677.
McCreary County, Kentucky, and Incorporated Areas, FEMA Docket No.: B-7787
South Fork Cumberland River | At confluence with Cooper Creek (At north western county boundary) | +760 | Unincorporated Areas of McCreary County.
| Approximately 8,000 feet upstream Alum Creek | +760
* National Geodetic Vertical Datum.
# Depth in feet above ground.
+ North American Vertical Datum.
ADDRESSES
Unincorporated Areas of Mccreary County
Maps are available for inspection at 1 N Main St, Whitley City, KY 42563.
Union County, Kentucky, and Incorporated Areas FEMA Docket No.: B-7794
Ohio River | At confluence with Tradewater River (At Union County/Crittenden County boundary) | +362 | Town of Uniontown, Unincorporated Areas of Union County.
| Approximately at 9.9 miles upstream confluence with Higland Creek (At Union County/Henderson County) | +371
* National Geodetic Vertical Datum.
# Depth in feet above ground.
+ North American Vertical Datum.
ADDRESSES
Town of Uniontown
Maps are available for inspection at Third and Main Streets, Uniontown, KY 42461.
Unincorporated Areas of Union County
Maps are available for inspection at 100 West Main Street, Morganfield, KY 42437.
Wayne County, Kentucky and Incorporated Areas, FEMA Docket No.: B-7794
Lake Cumberland | At Wolfe Creek Dam | +760 | City of Monticello, Unincorporated Areas of Wayne County.
| Approximately at 7,600 feet upstream Dugger Branch (North eastern county boundary) | +760
* National Geodetic Vertical Datum.
# Depth in feet above ground.
+ North American Vertical Datum.
ADDRESSES
City of Monticello
Maps are available for inspection at 157 South Main Street, Monticello, KY 42633.
Unincorporated Areas of Wayne County
Maps are available for inspection at 109 N. Main St., Monticello, KY 42633.
Alleghany County, North Carolina and Incorporated Areas, Docket No.: FEMA-B-1004
Bledsoe Creek | At the confluence with Little River | +2,752 | Alleghany County, Town of Sparta.
| Approximately 920 feet upstream of Green Needles Lane | +2,919
Bledsoe Creek Tributary 1 | At the confluence with Bledsoe Creek | +2,759 | Town of Sparta.
| Approximately 110 feet upstream of Cherry Street | +2,896
Brush Creek | At the confluence with Little River | +2,443 | Alleghany County.
| Approximately 1.6 miles upstream of Fox Ridge Road. | +2,522
Crab Creek | At the confluence with Little River | +2,337 | Alleghany County.
| Approximately 0.6 mile upstream of the confluence with Little River | +2,366
Cranberry Creek | At the Alleghany/Ashe County boundary | +2,739 | Alleghany County.
| Approximately 850 feet upstream of the Alleghany/Ashe County boundary | +2,743
Glade Creek | At the confluence with Little River | +2,499 | Alleghany County.
| Approximately 1.4 miles upstream of the confluence of Glade Creek Tributary 2 | +2,529
Glade Creek Tributary 1 | At the confluence with Glade Creek | +2,501 | Alleghany County.
| Approximately 0.4 mile upstream of Fox Den Lane | +2,565
Glade Creek Tributary 2 | At the confluence with Glade Creek | +2,509 | Alleghany County.
| Approximately 0.8 mile upstream of the confluence with Glade Creek | +2,579
Little River | Approximately 1,100 feet downstream of the confluence of Crab Creek | +2,333 | Alleghany County, Town of Sparta.
| Approximately 1.0 mile upstream of the confluence of Little River Tributary 2 | +2,851
Little River Tributary 1 | At the confluence with Little River | +2,587 | Alleghany County.
| Approximately 1,950 feet upstream of the confluence with Little River | +2,660
Little River Tributary 2 | At the confluence with Little River | +2,829 | Alleghany County, Town of Sparta.
| Approximately 0.7 mile upstream of the confluence with Little River | +2,905
Moccasin Creek | At the confluence with Little River | +2,431 | Alleghany County.
| Approximately 0.6 mile upstream of the confluence with Little River | +2,480
New River | Approximately 0.4 mile downstream of the confluence with New River Tributary 1 | +2,318 | Alleghany County.
| At the confluence of South Fork New River and North Fork New River | +2,487
New River Tributary 1 | Approximately 200 feet upstream of the confluence with New River | +2,319 | Alleghany County.
| Approximately 0.7 mile upstream of the confluence with New River | +2,364
New River Tributary 2 | At the confluence with New River | +2,339 | Alleghany County.
| Approximately 1,720 feet upstream of Riverwood Lane | +2,390
Pine Swamp Creek | At the confluence with Little River | +2,803 | Alleghany County.
| Approximately 0.7 mile upstream of Grandview Drive (State Road 1172) | +2,818
South Fork New River | At the confluence with New River | +2,487 | Alleghany County.
| Approximately 1.4 miles upstream of the confluence of South Fork New River Tributary 2 | +2,526
South Fork New River Tributary 1 | At the confluence with South Fork New River | +2,509 | Alleghany County.
| Approximately 0.5 mile upstream of the confluence with South Fork New River | +2,535
South Fork New River Tributary 2 | At the confluence with South Fork New River | +2,516 | Alleghany County.
| Approximately 0.7 mile upstream of the confluence with South Fork New River | +2,572
Vile Creek | At the confluence with Little River | +2,674 | Alleghany County, Town of Sparta.
| Approximately 1,660 feet upstream of NC Highway 18 | +2,759
Vile Creek Tributary 1 | At the confluence with Vile Creek | +2,695 | Alleghany County, Town of Sparta.
| Approximately 0.4 mile upstream of the confluence with Vile Creek | +2,751
# Depth in feet above ground.
* National Geodetic Vertical Datum.
+ North American Vertical Datum.
ADDRESSES
Alleghany County
Maps are available for inspection at Alleghany County Planning Department, County Administration Building, 348 South Main Street, Sparta, North Carolina.
Town of Sparta
Maps are available for inspection at Sparta Town Hall, 304 South Main Street, Sparta, North Carolina.
Hanson County, South Dakota and Incorporated Areas, FEMA Docket No.: B1014
James River | 1,050 feet upstream from 262nd St | +1215 | Unincorporated Areas of Hanson County.
| 540 feet upstream from Interstate 90 | +1223
* National Geodetic Vertical Datum.
# Depth in feet above ground.
+ North American Vertical Datum.
ADDRESSES
Unincorporated Areas of Hanson County
Maps are available for inspection at P.O. Box 500, Alexandria, SD 57311.
Hutchinson County, South Dakota, and Incorporated Areas, FEMA Docket No.: B-7796
James River | Approximately 50 feet upstream of Maxwell Road | +1189 | Unincorporated Areas of Hutchinson County, Town of Olivet.
| Approximately 2,600 feet downstream of 269th Street | +1210
* National Geodetic Vertical Datum.
# Depth in feet above ground.
+ North American Vertical Datum.
ADDRESSES
Town of Olivet
Maps are available for inspection at P.O. Box 490, Parkston, SD 57366.
Unincorporated Areas of Hutchinson County
Maps are available for inspection at P.O. Box 490, Parkston, SD 57366.
Lake County, South Dakota and Incorporated Areas FEMA Docket No.: B-1016
Park Creek | 1,720 feet downstream of 4th Street S. | +1657 | City of Madison.
| 75 feet upstream from Washington Ave N. | +1671
| 50 feet upstream of 9th Street NE. | +1684
Park Creek Tributary | 150 feet downstream from Union Ave. | +1681 | City of Madison.
| 150 feet upstream from Chicago Ave. | +1684
| 50 feet upstream of U.S. Highway 81 | +1695
Silver Creek | At confluence with Park Creek | +1659 | City of Madison.
| 100 feet downstream from Egan Ave. | +1665
| 50 feet upstream of Highland Avenue. | +1671
* National Geodetic Vertical Datum.
# Depth in feet above ground.
+ North American Vertical Datum.
ADDRESSES
City of Madison
Maps are available for inspection at 116 W Center, Madison, SD 57042.
Minnehaha County, South Dakota and Incorporated Areas, FEMA Docket No.: B-7781
Big Sioux River | Approximately 7,120 feet downstream from South Dakota Highway 42 | +1286 | Unincorporated Areas of Minnehaha County.
| Approximately 1,000 feet downstream from South Dakota Highway 42 | +1289
Big Sioux River | Approximately 2,500 feet downstream from Burlington Northern Santa Fe Railroad | +1305 | City of Sioux Falls, Unincorporated Areas of Minnehaha County.
| Approximately 1,000 feet downstream from West 60th Street | +1431
Cherry Creek | Approximately 70 feet downstream from South Sertoma Avenue | +1434 | City of Sioux Falls, Unincorporated Areas of Minnehaha County.
| Approximately 1,000 feet upstream from East 266th Street | +1458
Skunk Creek | 2,750 feet downstream from Interstate 29 | +1422 | City of Sioux Falls, Unincorporated Areas of Minnehaha County.
| Approximately 50 feet downstream from South 467th Avenue | +1459
Willow Creek | Approximately 1,130 feet upstream from North Lamesa Drive | +1438 | Unincorporated Areas of Minnehaha County, City of Sioux Falls.
| Approximately 1,300 feet upstream from Highway 38 | +1475
* National Geodetic Vertical Datum.
# Depth in feet above ground.
+ North American Vertical Datum.
ADDRESSES
City of Sioux Falls
Maps are available for inspection at 224 West 9th Street, P.O. Box 7402, Sioux Falls, SD 57117-7402.
Unincorporated Areas of Minnehaha County
Maps are available for inspection at County Administration Building, 415 N. Dakota Avenue, Sioux Falls, SD 57106.
Comal County, Texas and Incorporated Areas, FEMA Docket Nos.: B-7736 and D-7820
Alligator Creek | Approximately 4,500 feet downstream from the intersection with FM 1101 Road | +643 | City of New Braunfels.
| Intersection with Hoffman Lane | +717
Alligator Creek Tributary No. 6 | Confluence with Alligator Creek | +715 | City of New Braunfels, Unincorporated Areas of Comal County.
| Intersection with FM 306 | +795
Bear Creek (Dry Comal Watershed) | Confluence of Bear Creek and Dry Comal Watershed | +730 | City of Garden Ridge, Unincorporated Areas of Comal County.
| Confluence of Bear Creek and Bear Creek Tributary 14 | +831
Blieder's Creek | Intersection with River Road | +663 | City of New Braunfels, Unincorporated Areas of Comal County.
| Intersection with Schoenthal Road | +892
Bracken Tributary | Confluence with Cibolo Creek | +772 | City of Garden Ridge, Unincorporated Areas of Comal County.
| Approximately 2,075 feet upstream from the intersection with Garden North Drive | +899
Cibolo Creek | Intersection with Lookout Road | +763 | Unincorporated Areas of Comal County, City of Fair Oaks Ranch, City of Selma.
| Approximately 1.1 mile upstream from the confluence with Postoak Creek | +1276
Dry Comal Creek | At Altgelt Lane | +646 | City of New Braunfels, Unincorporated Areas of Comal County.
| Confluence of West Fork Dry Comal Creek and Upper Comal Creek | +780
Garden Ridge Tributary | Confluence of HID Tributary of Garden Ridge Tributary and Garden Ridge Tributary | +784 | City of Garden Ridge, Unincorporated Areas of Comal County.
| Intersection with Water Wood Drive | +903
Guadalupe River (Lower Reach) | Approximately 300 feet upstream from the intersection with Missouri Kansas Texas Railroad | +634 | Unincorporated Areas of Comal County.
| Confluence with Canyon Dam Emergency Spillway Channel | +760
West Fork Tributary | Confluence with West Fork Dry Comal Creek | +799 | Unincorporated Areas of Comal County.
| Approximately 774 feet downstream of Schoenthal Rd. | +852
* National Geodetic Vertical Datum.
# Depth in feet above ground.
+ North American Vertical Datum.
ADDRESSES
City of Fair Oaks Ranch
Maps are available for inspection at 7286 Dietz Elkhorn, Fair Oaks Ranch, TX 78015.
City of Garden Ridge
Maps are available for inspection at 9357 Schoenthal Road, Garden Ridge, TX 78266.
City of New Braunfels
Maps are available for inspection at 424 South Castell, New Braunfels, TX 78130.
City of Selma
Maps are available for inspection at 9375 Corporate, Selma, TX 78154.
Unincorporated Areas of Comal County
Maps are available for inspection at 195 David Jonas Drive, New Braunfels, TX 78132.

(Catalog of Federal Domestic Assistance No. 97.022, “Flood Insurance.”)

Dated: March 13, 2009.
Michael K. Buckley,
Acting Assistant Administrator, Mitigation Directorate, Department of Homeland Security, Federal Emergency Management Agency.

[FR Doc. E9-6577 Filed 3-24-09; 8:45 am]

BILLING CODE 9110-12-P